DEPARTMENT OF LABOR

Employment and Training Administration

[NAFTA-4461 and TA-W-38,601]

Arka Knitwear, Ridgewood, NY; Notice of Revised Determination on Reconsideration

By letter of April 15, 2001, the company official requested administrative reconsideration of the Department's denial of North American Free Trade Agreement—Transitional Adjustment Assistance (NAFTA-TAA) and Trade Adjustment Assistance (TAA), applicable to workers of Arka Knitwear, Ridgewood, New York, The notice were published in the Federal Register on April 16, 2001, NAFTA-4461 (66 FR 19522), and TA-W-38,601 (66 FR 19520).

The workers are primarily engaged in the production of sweaters.

The workers were denied NAFTA-TAA on the basis that there was no shift in production to Mexico or Canada, nor were there company or customer imports of sweaters from Mexico or Canada. The workers were denied TAA because the “contributed importantly” test of the Group Eligibility Requirements of the Trade Act was not met.

The company has presented documents from major declining customers of the subject firm. This evidence shows that these customers stopped purchasing sweaters from the subject firm and began using Mexico and other countries to source their sweater purchases.

An examination of trade data for women's and girls' sweaters reveals that from 1999 to 200, aggregate U.S. imports increased absolutely and relative to domestic shipments. In 2000, the import/shipments ratio exceeded 200 percent.

Conclusion

After careful consideration of the new facts obtained on reconsideration, it is concluded that the workers of Arka Knitwear, Ridgewood, New York, were adversely affected by increased imports (including those from Mexico) of articles like or directly competitive with sweaters produced at the subject firm.

“All workers of Arka Knitwear, Ridgewood, New York, who became totally or partially separated from employment on or after January 12, 2000, through two years from the date of certification, are eligible to apply for NAFTA-TAA under Section 250 of the Trade Act of 1974;” and

“All workers of Arka Knitwear, Ridgewood, New York, who became totally or partially separated from employment on or after January 12, 2000, through two years from the date of certification, are eligible to apply for adjustment assistance under Section 223 of the Trade Act of 1974.”

Signed at Washington, DC this 28th day of September 2001.
Linda G. Poole,
Certifying Officer, Division of Trade Adjustment Assistance.

[FR Doc. 01-26357 Filed 10-18-01 8:45 am]

BILLING CODE 4510-30-M